DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons and vessels that have been placed on OFAC's Specially Designated Nationals and Blocked Persons List (SDN List) based on OFAC's determination that one or more applicable legal criteria were satisfied. All property and interests in property subject to U.S. jurisdiction of these persons are blocked, and U.S. persons are generally prohibited from engaging in transactions with them. The vessels placed on the SDN List have been identified as property in which a blocked person has an interest.

DATES: This action was issued on March 13, 2025. See SUPPLEMENTARY INFORMATION for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On March 13, 2025, OFAC determined that the property and interests in property subject to U.S. jurisdiction of the following persons are blocked under the relevant sanctions authority listed below.

BILLING CODE 4810-AL-P

BILLING CODE 4810-AL-C

On March 13, 2025, OFAC also identified the following vessels as property in which a blocked person has an interest under the relevant sanctions authority listed below.

Vessels

1. BLUE GULF (T8A4799) Crude Oil Tanker Palau flag; Vessel Registration Identification IMO 9328716; MMSI 511101436 (vessel) [IRAN-EO13902] (Linked To: UNITED TANKERS LTD).

Identified as property in which UNITED TANKERS LTD, a person whose property and interests in property are blocked pursuant to E.O. 13902, has an interest.

2. ITAUGUA (D6A3529) Crude Oil Tanker Comoros flag; Vessel Registration Identification IMO 9102277; MMSI 620999528 (vessel) [IRAN-EO13902] (Linked To: ITAUGUA SERVICES INC).

Identified as property in which ITAUGUA SERVICES INC, a person whose property and interests in property are blocked pursuant to E.O. 13902, has an interest.

3. PEACE HILL (VRGO9) Crude Oil Tanker Hong Kong flag; Vessel Registration Identification IMO 9288019; MMSI 477738400 (vessel) [IRAN-EO13902] (Linked To: HONG KONG HESHUN TRANSPORTATION TRADING LIMITED).

Identified as property in which HONG KONG HESHUN TRANSPORTATION TRADING LIMITED, a person whose property and interests in property are blocked pursuant to E.O. 13902, has an interest.

4. SEASKY (T7BN2) Crude Oil Tanker San Marino flag; Vessel Registration Identification IMO 9237412; MMSI 268242902 (vessel) [IRAN-EO13902] (Linked To: SEASKY MARINE CO., LIMITED).

Identified as property in which SEASKY MARINE CO., LIMITED, a person whose property and interests in property are blocked pursuant to E.O. 13902, has an interest.

5. LEXI (a.k.a. LEXIE) (TJ04M) Crude Oil Tanker Cameroon flag; Vessel Registration Identification IMO 9203277; MMSI 613806561 (vessel) [IRAN-EO13902] (Linked To: SEA SERVICES PROVIDERS NV).

Identified as property in which SEA SERVICES PROVIDERS NV, a person whose property and interests in property are blocked pursuant to E.O. 13902, has an interest.

6. LYDYA N (a.k.a. OMAN PRIDE) (T8A4077) Crude Oil Tanker Palau flag; Vessel Registration Identification IMO 9153525; MMSI 511100863 (vessel) [IRAN-EO13902] (Linked To: TURQUOISE SEA MARINE LIMITED).

Identified as property in which TURQUOISE SEA MARINE LIMITED, a person whose property and interests in property are blocked pursuant to E.O. 13902, has an interest.

7. POLARIS 1 (EPXT5) Chemical/Oil Tanker Iran flag; Vessel Registration Identification IMO 9272694; MMSI 422546600 (vessel) [IRAN-EO13902] (Linked To: FALLON SHIPPING COMPANY LIMITED).

Identified as property in which FALLON SHIPPING COMPANY LIMITED, a person whose property and interests in property are blocked pursuant to E.O. 13902, has an interest.

8. CORONA FUN (3E5355) Crude Oil Tanker Panama flag; Vessel Registration Identification IMO 9276573; MMSI 352003958 (vessel) [IRAN-EO13902] (Linked To: SUN SCIENCE INTERNATIONAL CO., LIMITED).

Identified as property in which SUN SCIENCE INTERNATIONAL CO., LIMITED, a person whose property and interests in property are blocked pursuant to E.O. 13902, has an interest.

9. SHANNON II (8P2369) Crude Oil Tanker Barbados flag; Vessel Registration Identification IMO 9237797; MMSI 314903000 (vessel) [IRAN-EO13902] (Linked To: CELESTITE MARITIME INC).

Identified as property in which CELESTITE MARITIME INC, a person whose property and interests in property are blocked pursuant to E.O. 13902, has an interest.

10. NESO (3E5143) Crude Oil Tanker PANAMA flag; Vessel Registration Identification IMO 9257149; MMSI 352003483 (vessel) [IRAN-EO13902] (Linked To: NEPTUNE MARINE LTD).

Identified as property in which NEPTUNE MARINE LTD, a person whose property and interests in property are blocked pursuant to E.O. 13902, has an interest.

Lisa M. Palluconi,
Acting Director,Office of Foreign Assets Control.

[FR Doc. 2025-04526 Filed 3-18-25; 8:45 am]

BILLING CODE 4810-AL-P